DEPARTMENT OF ENERGY

Federal Energy Regulatory Commission

Combined Notice of Filings #1

Take notice that the Commission received the following electric corporate filings:

Docket Numbers: EC15-131-000.

Applicants: Wisconsin Public Service Corporation.

Description: Application for Approval of Transaction Under Section 203(a)(1)(B) of the Federal Power Act of Wisconsin Public Service Corporation.

Filed Date: 4/30/15.

Accession Number: 20150430-5318.

Comments Due: 5 p.m. ET 5/21/15.

Take notice that the Commission received the following electric rate filings:

Docket Numbers: ER10-2487-002.

Applicants: Pacific Summit Energy LLC.

Description: Notice of Change in Facts of Pacific Summit Energy LLC.

Filed Date: 4/29/15.

Accession Number: 20150429-5533.

Comments Due: 5 p.m. ET 5/20/15.

Docket Numbers: ER14-2245-001.

Applicants: TriEagle Energy, LP.

Description: Notice of Non-Material Change in Status of TriEagle Energy, LP.

Filed Date: 4/29/15.

Accession Number: 20150429-5522.

Comments Due: 5 p.m. ET 5/20/15.

Docket Numbers: ER15-763-001.

Applicants: Southwest Power Pool, Inc.

Description: Compliance filing per 35: Compliance Filing Regarding Allocation of Over-Collected Losses to be effective N/A.

Filed Date: 4/29/15.

Accession Number: 20150429-5443.

Comments Due: 5 p.m. ET 5/20/15.

Docket Numbers: ER15-1042-001.

Applicants: New York Independent System Operator, Inc.

Description: Tariff Amendment per 35.17(b): Response to Deficiency Letter—Voltage Support to be effective 1/1/2016.

Filed Date: 4/30/15.

Accession Number: 20150430-5194.

Comments Due: 5 p.m. ET 5/21/15.

Docket Numbers: ER15-1610-000.

Applicants: California Power Exchange Corporation.

Description: § 205(d) rate filing per 35.13(a)(2)(iii): Rate Filing for Rate Period 27 to be effective 7/1/2015.

Filed Date: 4/29/15.

Accession Number: 20150429-5445.

Comments Due: 5 p.m. ET 5/20/15.

Docket Numbers: ER15-1611-000.

Applicants: Exelon Generation Company, LLC.

Description: Request for Waiver of Tariff Provision, Request for Shortened Comment Period and Request for Expedited Commission Action of Exelon Generation Company, LLC.

Filed Date: 4/29/15.

Accession Number: 20150429-5538.

Comments Due: 5 p.m. ET 5/11/15.

Docket Numbers: ER15-1612-000.

Applicants: Arrow Energy RRH, LLC.

Description: Initial rate filing per 35.12 Market-Based Rate Application to be effective 6/1/2015.

Filed Date: 4/30/15.

Accession Number: 20150430-5176.

Comments Due: 5 p.m. ET 5/21/15.

Docket Numbers: ER15-1613-000.

Applicants: Southwest Power Pool, Inc.

Description: § 205(d) rate filing per 35.13(a)(2)(iii): Southwestern Power Administration NITS Rate Change to be effective 6/1/2015 under ER15-1613 Filing Type: 10.

Filed Date: 4/30/15.

Accession Number: 20150430-5212.

Comments Due: 5 p.m. ET 5/21/15.

Docket Numbers: ER15-1614-000.

Applicants: PJM Interconnection, L.L.C.

Description: PJM Interconnection, L.L.C.'s Notices of Cancellation of Service Agreements.

Filed Date: 4/30/15.

Accession Number: 20150430-5243.

Comments Due: 5 p.m. ET 5/21/15.

Docket Numbers: ER15-1615-000.

Applicants: Tampa Electric Company.

Description: § 205(d) rate filing per 35.13(a)(2)(iii): Emergency Interchange Service Schedule A&B—2015 (Bundled) to be effective 5/1/2015.

Filed Date: 4/30/15.

Accession Number: 20150430-5256.

Comments Due: 5 p.m. ET 5/21/15.

Docket Numbers: ER15-1616-000.

Applicants: Midcontinent Independent System Operator, Inc., Ameren Illinois Company.

Description: § 205(d) rate filing per 35.13(a)(2)(iii): 2015-04-30_SA 2784 Ameren Illinois-Prairie Power Construction Agreement to be effective 4/10/2015.

Filed Date: 4/30/15.

Accession Number: 20150430-5361.

Comments Due: 5 p.m. ET 5/21/15.

Docket Numbers: ER15-1617-000.

Applicants: Midcontinent Independent System Operator, Inc., Ameren Illinois Company.

Description: § 205(d) rate filing per 35.13(a)(2)(iii): 2015-04-30_SA 2783 Ameren Illinois-SWECI Construction Agreement to be effective 4/10/2015.

Filed Date: 4/30/15.

Accession Number: 20150430-5398.

Comments Due: 5 p.m. ET 5/21/15.

Docket Numbers: ER15-1618-000.

Applicants: Duke Energy Florida, Inc.

Description: § 205(d) rate filing per 35.13(a)(2)(iii): DEF IA Annual Cost Factor Update (2015) to be effective 5/1/2015.

Filed Date: 4/30/15.

Accession Number: 20150430-5470.

Comments Due: 5 p.m. ET 5/21/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2015.
Kimberly D. Bose,
Secretary.

[FR Doc. 2015-10568 Filed 5-5-15; 8:45 am]

BILLING CODE 6717-01-P